DEPARTMENT OF AGRICULTURE

Food Safety and Inspection Service

[Docket No. FSIS-2017-0019]

Codex Alimentarius Commission: Meeting of the Codex Alimentarius Commission

AGENCY: Office of the Deputy Under Secretary for Food Safety, USDA.

ACTION: Notice of public meeting and request for comments.

SUMMARY: The Office of the Deputy Under Secretary for Food Safety, U.S. Department of Agriculture (USDA), is sponsoring a public meeting on June 26, 2017. The objective of the public meeting is to provide information and receive public comments on agenda items and draft United States (U.S.) positions to be discussed at the 40th Session of the Codex Alimentarius Commission (CAC) taking place in Geneva, Switzerland, between July 17 and 22, 2017. The Administrator of the Food Safety and Inspection Service and Acting Deputy Under Secretary, Office of Food Safety, recognize the importance of providing interested parties the opportunity to obtain background information on the 40th Session of the CAC and to address items on the agenda.

DATES: The public meeting is scheduled for Monday, June 26, 2017, from 1:00 p.m.-4:00 p.m.

ADDRESSES: The public meeting will take place at the United States Department of Agriculture (USDA), Jamie L. Whitten Building, 1400 Independence Avenue SW., Room 107-A, Washington, DC 20250. Documents related to the 40th Session of the CAC will be accessible via the Internet at the following address: http://www.codexalimentarius.org/meetings-reports/en/.

The U.S. Delegate to the 40th Session of the CAC invites U.S. interested parties to submit their comments electronically to the following email address: uscodex@fsis.usda.gov.

Call-In-Number

If you wish to participate in the public meeting for the 40th Session of the CAC by conference call, please use the call-in-number and the participant code listed below:

Call-in-Number: 1-888-844-9904.

The participant code will be posted on the Web page below: http://www.fsis.usda.gov/wps/portal/fsis/topics/international-affairs/us-codex-alimentarius/public-meetings.

Registration

Attendees may register to attend the public meeting by emailing uscodex@fsis.usda.gov by June 22, 2017. Early registration is encouraged as it will expedite entry into the building. The meeting will be held in a Federal building. Attendees should bring photo identification and plan for adequate time to pass through security screening systems. Attendees who are not able to attend the meeting in person, but wish to participate may do so by phone, as discussed above.

FOR FURTHER INFORMATION CONTACT:

About the 40th session of the CAC: U.S. Codex Office, 1400 Independence Avenue SW., Room 4861, Washington, DC 20250, Telephone: (202) 205-7760, Fax: (202) 720-3157, Email: uscodex@fsis.usda.gov.

About the meeting: Jasmine Curtis, U.S. Codex Office, 1400 Independence Avenue SW., Room 4865, Washington, DC 20250, Telephone: (202) 205-7760, Fax: (202) 720-3157, Email: Jasmine.Curtis@fsis.usda.gov.

SUPPLEMENTARY INFORMATION:

Background

The CAC was established in 1963 by two United Nations organizations, the Food and Agriculture Organization (FAO) and the World Health Organization (WHO). Through adoption of food standards, codes of practice, and other guidelines developed by its committees, and by promoting their adoption and implementation by governments, the CAC seeks to protect the health of consumers and ensure fair practices in the food trade; promotes coordination of all food standards work undertaken by international governmental and non-governmental organizations; determines priorities and initiates and guides the preparation of draft standards through and with the aid of appropriate organizations; finalizes the standards elaborated and publishes them in a Codex Alimentarius (food code) either as regional or worldwide standards, together with international standards already finalized by other bodies, wherever this is practicable; and amends published standards, as appropriate, in the light of new developments.

Issues To Be Discussed at the Public Meeting

The following items on the Agenda for the 40th Session of the CAC will be discussed during the public meeting:

• Reports of the 72nd and 73rd Sessions of the Executive Committee;

• Reports of the FAO/WHO Coordinating Committees;

• Amendments to the Procedural Manual;

• Final adoption of Codex texts;

• Adoption of Codex texts at Step 5;

• Revocation of Codex texts;

• Proposals for New Work;

• Discontinuation of Work;

• Amendments to Codex Standards and Related Texts;

• Regular Review of Codex Work Management (Electronic Working Groups);

• Matters arising from the Reports of the Commission, the Executive Committee, and the Subsidiary Bodies;

• Codex Budgetary and Financial Matters;

• FAO/WHO Scientific Support to Codex: Report on Activities and Future Work;

• FAO/WHO Scientific Support to Codex: Budgetary and Financial Matters;

• Matters Arising from FAO and WHO: Policy and Related Matters;

• Matter Arising from FAO and WHO: Capacity Development Activities;

• Relations between the CAC and other International Organizations;

• Election of the Chairperson, Vice-Chairpersons, and Members of the Executive Committee elected on a Geographical Basis and Appointment of the Coordinators;

• Designation of Countries responsible for Appointing the Chairpersons of Codex Subsidiary Bodies; and

• Other Business.

Each issue listed will be fully described in documents distributed, or to be distributed, by the Secretariat before the Meeting. Members of the public may access or request copies of these documents (see ADDRESSES).

Public Meeting

At the June 26, 2017, public meeting, draft U.S. positions on the agenda items will be described and discussed, and attendees will have the opportunity to pose questions and offer comments. Written comments may be offered at the meeting or sent to the U.S. Delegate for the 40th Session of the CAC (see ADDRESSES). Written comments should state that they relate to activities of the 40th Session of the CAC.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.) should contact USDA's TARGET Center at (202) 720-2600 (voice and TDD).

Done at Washington, DC, on May 12, 2017.
Mary Frances Lowe,
U.S. Manager for Codex Alimentarius.

[FR Doc. 2017-09994 Filed 5-16-17; 8:45 am]

BILLING CODE 3410-DM-P